ENVIRONMENTAL PROTECTION AGENCY

40 CFR Parts 7 and 9

[EPA-HQ-OA-2013-0031; FRL-9941-58-OA]

RIN 2090-AA39

Nondiscrimination in Programs or Activities Receiving Federal Assistance From the Environmental Protection Agency; Comment Extension

AGENCY: Environmental Protection Agency (EPA).

ACTION: Proposed rule; extension of comment period.

SUMMARY: The Environmental Protection Agency (EPA) is extending the comment period for the proposed rule titled “Nondiscrimination in Programs or Activities Receiving Federal Assistance from the Environmental Protection Agency” that was published in the Federal Register on December 14, 2015. This action extends the deadline for submitting written comments on the proposed rule. This extension provides an additional 30 days for the public to provide written comments.

DATES: Comments, identified by docket identification (ID) number EPA-HQ-OA-2013-0031, must be received on or before March 12, 2016.

ADDRESSES: Written comments may be submitted online through Docket ID No. EPA-HQ-OA-2013-0031, to the Federal eRulemaking Portal: http://www.regulations.gov or mailed to U.S. Environmental Protection Agency, Office of Civil Rights, (Mail Code 1201A), 1200 Pennsylvania Ave. NW., Washington, DC 20460.

FOR FURTHER INFORMATION CONTACT: Jeryl Covington or Lilian Dorka, U.S. Environmental Protection Agency, Office of Civil Rights, (Mail Code 1201A), 1200 Pennsylvania Ave. NW., Washington, DC. 20460, telephone (202) 564-7272 or (202) 564-7713.

SUPPLEMENTARY INFORMATION: This document extends the public comment period for the proposed Nondiscrimination in Programs or Activities Receiving Federal Assistance from the EPA (80 FR 77284, December 14, 2015) in order to ensure that the public has sufficient time to review and comment on the proposal. That proposal provided for a public comment period ending February 12, 2016.

The EPA received several requests from the public to extend this comment period and this notice is the Agency's response to those persons who requested an extension of the comment period. In addition, EPA is providing notice that additional support documents are available for public inspection in the rulemaking docket. Finally, in response to significant public interest in the proposed rule, the Agency will conduct one additional public session in Washington, DC. Additional information on this announcement is located at www.epa.gov/ocr.

Dated: February 1, 2016.
Velveta Golightly-Howell,
Director, Office of Civil Rights.

[FR Doc. 2016-02589 Filed 2-8-16; 8:45 am]

BILLING CODE 6560-50-P